DEPARTMENT OF ENERGY

Environmental Management Site-Specific Advisory Board, Semi-Annual Chairs Meeting

AGENCY: Department of Energy.

ACTION: Notice of Open Meeting.

SUMMARY: This notice announces a meeting of the Environmental Management Site-Specific Advisory Board (EM SSAB), Semi-Annual Chairs Meeting. Federal Advisory Committee Act (Pub. L. No. 92-463, 86 Stat. 770) requires that public notice of these meetings be announced in the Federal Register.

DATES: Friday, February 18, 2000, 8:30 a.m.-5:00 p.m.; Saturday, February 19, 2000, 8:00 a.m.-5:00 p.m.

ADDRESSES: Cavanaugh's on the Falls, 475 River Parkway, Idaho Falls, Idaho, 800-325-4000.

FOR FURTHER INFORMATION CONTACT: Fred Butterfield, Deputy Designated Federal Officer, U.S. Department of Energy, 1000 Independence Avenue, SW, Washington DC, 20585, (202) 586-5542.

SUPPLEMENTARY INFORMATION: Purpose of the Board: The purpose of the Board is to make recommendations to DOE and its regulators in the areas of future use, cleanup levels, waste disposition and cleanup priorities.

Tentative Agenda

Friday, February 18, 2000: EM SSAB Chairs Meeting (Day 1)

8:00-8:30 a.m—Registration

8:30-8:45 a.m—Welcome by Ms. Bev Cook, Manager, DOE Idaho Operations Office; Mr. Chuck Rice, Chair of INEEL CAB; and the Honorable Linda Milam, Mayor of Idaho Falls, ID

8:45-8.50 a.m—Introductory remarks (Martha Crosland, Director, EM Office of Intergovernmental and Public Accountability, DOE-Headquarters)

8:50-9:00 a.m—EM SSAB Chairs Meeting “Rules of Engagement” (Wendy Green Lowe, INEEL CAB Administrator/Facilitator)

9:00-10:00 a.m—Update on EM Integration Program (Mr. David Huizenga, Deputy Assistant Secretary for Integration and Disposition)

10:00-10:15 a.m—Break

10:15-11:00 a.m—Integrated Nuclear Materials Management Plan (Dave Huizenga)

11:00 a.m.-11:45 a.m—Update on Status of Stakeholder Questions from May 1999 SSAB Transportation Workshop, Cincinnati, OH (Dave Huizenga)

11:45 a.m.-1:00 p.m—Lunch

1:00 p.m.-2:45 p.m—“Round-robin” general issues and information exchange among local EM SSABs (SSAB Chairs)

2:45-3:00 p.m—Break

3:00-4:00 p.m—Overview of the FY 2001 EM Budget and discussion of EM's 2000 Paths to Closure Process (Fred Butterfield, Office of Policy, Planning & Budget)

4:00-4:45 p.m—Summary/Discussion: Oak Ridge Stewardship Seminar (Oak Ridge)

4:45-5:00 p.m—Public Comment period (Wendy)

5:00 p.m—Dinner (on your own)

Saturday, February 19, 2000: EM SSAB Chairs Meeting (Day 2)

8:00-9:00 a.m—DOE-EM Informational and Status Updates (Martha)

• Waste Management PEIS and Disposal Records of Decision

• PEIS Lawsuit Settlement

• Waste Isolation Pilot Plant (WIPP)

• NEPA (EIS/EA) Status Updates

• Transportation Protocols Standardization Initiative

• DOE-EM Reorganization Implementation

9:00-10:00 a.m—Update/Discussion on Draft Revised EM SSAB Guidance (Fred)

10:00-10:30 a.m—Discussion: Determine Interest in Offering the EM “Environmental Laws and Regulations” Training Course for EM SSAB Chairs at next SSAB Chairs' Meeting (Martha)

10:30-11:00 a.m—New Business/TBD (Martha)

11:00-11:15 a.m—Public comment period (Wendy)

11:15-11:30 a.m—Break

12:00 p.m—Closing Remarks/Adjourn (Martha)

12:00 p.m.-1:00 p.m—Lunch (on your own)

1:00-5:00 p.m—Opportunities for informal gatherings of EM SSAB Chairs, SSAB Administrators/Facilitators, and DOE SSAB Federal Coordinators

5:00 p.m—Dinner (on your own)

(Agenda topics may change up to the day of the meeting; please call the FOR FURTHER INFORMATION CONTACT in this notice for the current agenda)

Public Participation: This meeting is open to the public. Written statements may be filed with the Board facilitator before or after the meeting. Individuals who wish to make oral presentations pertaining to agenda items should contact the Board Chair at their specific site, or Fred Butterfield at the address listed above. Requests must be received 5 days prior to the meeting and reasonable provision will be made to include the presentation in the agenda. The Designated Federal Officer, Martha Crosland, and the Deputy Designated Federal Officer, Fred Butterfield, U.S. Department of Energy, are empowered to conduct the meeting in a fashion that will facilitate the orderly conduct of business. This notice is being published less than 15 days before the date of the meeting due to programmatic issues that had to be resolved prior to publication.

Minutes: A written summary of this meeting will be available for public review and copying at the Freedom of Information Public Reading Room, 1E-190, Forrestal Building, 1000 Independence Avenue, SW, Washington, DC 20585 between 9:00 a.m. and 4:00 p.m., Monday-Friday, except Federal holidays. The meeting summary will also be available by writing the EM-SSAB Chair or Designated Deputy Federal Officer of every EM-SSAB that participated in the meeting.

Issued at Washington, DC on February 1, 2000.
Rachel Samuel,
Deputy Advisory Committee Management Officer.

[FR Doc. 00-2706 Filed 2-4-00; 8:45 am]

BILLING CODE 6450-01-P